DEPARTMENT OF ENERGY

Federal Energy Regulatory Commission

[Docket No. GT02-35-000]

Tennessee Gas Pipeline Company; Notice of Filing

August 23, 2002.

Take notice that on August 16, 2002, Tennessee Gas Pipeline Company (Tennessee), tendered for filing as part of its FERC Gas Tariff, Fifth Revised Volume No. 1, Third Revised Sheet No. 338, Fifth Revised Sheet No. 404, Eighth Revised Sheet No. 405, Ninth Revised Sheet No. 405A, Third Revised Sheet No. 405A.01, and Original Sheet No. 405A.02.

Tennessee states that these tariff sheets are being filed to implement more effective creditworthiness safeguards in Article XXVIII of the General Terms and Conditions (GT&C) of its FERC Gas Tariff. Tennessee submits that the revisions are intended to provide the necessary protections to Tennessee and its creditworthy and paying customers from the realistic potential of sudden changes in other customers' financial condition and payment status.

Additionally, Tennessee states that its revised provision will provide customers with the advantage of knowing the necessary requirements and available options for resuming service on Tennessee's system. Furthermore, Tennessee's revised creditworthiness evaluation provision will provide a customer, which loses its creditworthiness, with the flexibility to assess its options in advance and better determine an expedient course of action to limit its exposure. Tennessee requests that the foregoing tariff sheets be made effective on September 16, 2002.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22028 Filed 8-28-02; 8:45 am]

BILLING CODE 6717-01-P